DEPARTMENT OF ENERGY

Federal Energy Regulatory Commission

[Docket No. CP01-65-000]

Eastern Shore Natural Gas Company; Notice of Site Visit

April 6, 2001.

On April 20, 2001, the Office of Energy Projects (OEP) staff will conduct a precertification site visit of Eastern Shore Natural Gas Company's (Eastern Shore) 2001 System Expansion and Capacity Stabilization Project in Chester County, Pennsylvania and Cecil County, Maryland. We will discuss the environmental impact of the proposed construction and operation of facilities along the project route and possible route variations. All parties may attend. Those planning to attend must provide their own transportation. We will be meeting at 8:30 a.m. at the Comfort Inn on 1120 S. College Ave. in Newark, Delaware. Representatives of Eastern Shore will be accompanying the OEP staff.

For further information on attending the site visit, please contact the Commission's Office of External Affairs at (202) 208-0004.

Linwood A. Watson, Jr.,
Acting Secretary.

[FR Doc. 01-9029 Filed 4-11-01; 8:45 am]

BILLING CODE 6717-01-M